DEPARTMENT OF TRANSPORTATION

Federal Aviation Administration

14 CFR Part 97

[Docket No. 31283; Amdt. No. 3879]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective November 29, 2019. The compliance date for each SIAP, associated Takeoff Minimums, and ODP is specified in the amendatory provisions.

The incorporation by reference of certain publications listed in the regulations is approved by the Director of the Federal Register as of November 29, 2019.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, email fedreg.legal@nara.gov or go to: https://www.archives.gov/federal-register/cfr/ibr-locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg 29 Room 104, Oklahoma City, OK 73169. Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on November 15, 2019.
Rick Domingo,
Executive Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

* * * Effective 2 January 2020

Charlotte, NC, Charlotte/Douglas Intl, RNAV (GPS) Y RWY 36C, Amdt 3F

Charlotte, NC, Charlotte/Douglas Intl, RNAV (RNP) Z RWY 36C, Orig-F

New Bern, NC, Coastal Carolina Regional, RNAV (GPS) RWY 4, Amdt 2

Morristown, NJ, Morristown Muni, Takeoff Minimums and Obstacle DP, Amdt 8

* * * Effective 30 January 2020

Mobile, AL, Mobile Rgnl, RNAV (GPS) RWY 36, Amdt 1C

Reform, AL, North Pickens, RNAV (GPS) RWY 1, Orig-B

Dumas, AR, Billy Free Muni, Takeoff Minimums and Obstacle DP, Amdt 1

Hot Springs, AR, Memorial Field, RNAV (GPS) RWY 5, Amdt 2A

Columbia, CA, Columbia, FICHU THREE, Graphic DP

Columbia, CA, Columbia, RNAV (GPS) RWY 35, Orig-C

Columbia, CA, Columbia, Takeoff Minimums and Obstacle DP, Amdt 2

Sacramento, CA, Sacramento Mather, RNAV (GPS) RWY 22L, Amdt 3A

Visalia, CA, Visalia Muni, ILS OR LOC RWY 30, Amdt 8A

Watsonville, CA, Watsonville Muni, RNAV (GPS) RWY 2, Amdt 2

Denver, CO, Colorado Air and Space Port, ILS OR LOC RWY 17, Amdt 1C

Denver, CO, Colorado Air and Space Port, ILS OR LOC RWY 26, Amdt 6A

Denver, CO, Colorado Air and Space Port, ILS OR LOC RWY 35, Amdt 2B

Denver, CO, Colorado Air and Space Port, RNAV (GPS) RWY 17, Amdt 1C

Denver, CO, Colorado Air and Space Port, RNAV (GPS) RWY 26, Amdt 2A

Denver, CO, Colorado Air and Space Port, RNAV (GPS) RWY 35, Amdt 2A

Montrose, CO, Montrose Rgnl, ILS OR LOC RWY 17, Amdt 3

Montrose, CO, Montrose Rgnl, RNAV (GPS) RWY 13, Amdt 1

Montrose, CO, Montrose Rgnl, RNAV (GPS) RWY 17, Amdt 1

Montrose, CO, Montrose Rgnl, RNAV (GPS) Y RWY 17, Orig-C, CANCELLED

Boca Raton, FL, Boca Raton, VOR-A, Amdt 1B, CANCELLED

Fort Pierce, FL, Treasure Coast Intl, ILS OR LOC RWY 10R, Amdt 4E

Fort Pierce, FL, Treasure Coast Intl, NDB RWY 28L, Amdt 2B, CANCELLED

Jacksonville, FL, Jacksonville Intl, Takeoff Minimums and Obstacle DP, Amdt 2

Titusville, FL, Arthur Dunn Air Park, RNAV (GPS)-A, Orig-A

Titusville, FL, Arthur Dunn Air Park, RNAV (GPS)-B, Orig-A

Claxton, GA, Claxton-Evans County, NDB RWY 9, Orig, CANCELLED

Claxton, GA, Claxton-Evans County, RNAV (GPS) RWY 10, Amdt 2

Claxton, GA, Claxton-Evans County, RNAV (GPS) RWY 28, Amdt 1

Claxton, GA, Claxton-Evans County, Takeoff Minimums and Obstacle DP, Amdt 1

Monroe, GA, Monroe-Walton County, NDB-A, Amdt 1B, CANCELLED

Moultrie, GA, Moultrie Muni, RNAV (GPS) RWY 4, Amdt 2

Moultrie, GA, Moultrie Muni, RNAV (GPS) RWY 22, Amdt 2

Moultrie, GA, Moultrie Muni, Takeoff Minimums and Obstacle DP, Amdt 3

Sylvania, GA, Plantation Airpark, NDB RWY 23, Amdt 3

Sylvania, GA, Plantation Airpark, RNAV (GPS) RWY 5, Amdt 1

Sylvania, GA, Plantation Airpark, RNAV (GPS) RWY 23, Amdt 1

Sylvania, GA, Plantation Airpark, Takeoff Minimums and Obstacle DP, Amdt 1

Hana, HI, Hana, RNAV (GPS) RWY 8, Orig

Hana, HI, Hana, RNAV (GPS) RWY 26, Amdt 1

Forest City, IA, Forest City Muni, Takeoff Minimums and Obstacle DP, Amdt 3

Shenandoah, IA, Shenandoah, Muni, NDB RWY 4, Orig-D, CANCELLED

Jerome, ID, Jerome County, RNAV (GPS) RWY 9, Amdt 1

Jerome, ID, Jerome County, RNAV (GPS) RWY 27, Amdt 1

Jerome, ID, Jerome County, Takeoff Minimums and Obstacle DP, Amdt 3

Jerome, ID, Jerome County, VOR-A, Amdt 3

Greenville, IL, Greenville, VOR-A, Amdt 3A

Liberal, KS, Liberal Mid-America Rgnl, RNAV (GPS) RWY 22, Amdt 1A

Glasgow, KY, Glasgow Muni, RNAV (GPS) RWY 8, Amdt 2C

Greenville, KY, Muhlenberg County, VOR/DME-A, Amdt 5C, CANCELLED

Jackson, KY, Julian Carroll, VOR/DME RWY 1, Amdt 2A, CANCELLED

Madisonville, KY, Madisonville Rgnl, VOR RWY 23, Amdt 15, CANCELLED

Mansfield, LA, C E `Rusty' Williams, RNAV (GPS) RWY 18, Orig-B

Shreveport, LA, Shreveport Downtown, RNAV (GPS) RWY 5, Orig

Shreveport, LA, Shreveport Downtown, RNAV (GPS) RWY 14, Amdt 1A

Shreveport, LA, Shreveport Downtown, RNAV (GPS) RWY 23, Orig

Shreveport, LA, Shreveport Downtown, Takeoff Minimums and Obstacle DP, Amdt 4

Rangeley, ME, Steven A Bean Muni, Takeoff Minimums and Obstacle DP, Amdt 1

Big Rapids, MI, Roben-Hood, VOR/DME-A, Amdt 8, CANCELLED

Ludington, MI, Mason County, RNAV (GPS) RWY 26, Orig-B

Bemidji, MN, Bemidji Rgnl, ILS OR LOC RWY 25, Amdt 1B

Bemidji, MN, Bemidji Rgnl, RNAV (GPS) RWY 13, Amdt 1B

Bemidji, MN, Bemidji Rgnl, RNAV (GPS) RWY 25, Orig-C

Bemidji, MN, Bemidji Rgnl, RNAV (GPS) RWY 31, Amdt 1B

Cloquet, MN, Cloquet Carlton County, NDB RWY 18, Amdt 4B

Cloquet, MN, Cloquet Carlton County, NDB RWY 36, Amdt 5B

Cloquet, MN, Cloquet Carlton County, Takeoff Minimums and Obstacle DP, Amdt 3

Pine River, MN, Pine River Rgnl, NDB RWY 34, Amdt 2

Rochester, MN, Rochester Intl, RNAV (GPS) RWY 2, Amdt 3C

Rochester, MN, Rochester Intl, RNAV (GPS) RWY 31, Amdt 2A

Tupelo, MS, Tupelo Rgnl, ILS Z OR LOC Z RWY 36, Amdt 10B

Newark, NJ, Newark Liberty Intl, RNAV (RNP) Z RWY 4R, Orig-E

Robbinsville, NJ, Trenton-Robbinsville, RNAV (GPS) RWY 11, Orig-B

Robbinsville, NJ, Trenton-Robbinsville, RNAV (GPS) RWY 29, Amdt 1B

Robbinsville, NJ, Trenton-Robbinsville, VOR RWY 29, Amdt 11B

London, OH, Madison County, Takeoff Minimums and Obstacle DP, Amdt 1

Bartlesville, OK, Bartlesville Muni, Takeoff Minimums and Obstacle DP, Orig-A

Cushing, OK, Cushing Muni, RNAV (GPS) RWY 36, Amdt 2A

Wagoner, OK, Hefner-Easley, RNAV (GPS) RWY 36, Amdt 2

Madras, OR, Madras Municipal, Takeoff Minimums and Obstacle DP, Amdt 1A

Allentown, PA, Lehigh Valley Intl, Takeoff Minimums and Obstacle DP, Amdt 8

Philipsburg, PA, Mid-State, RNAV (GPS) RWY 16, Orig-D

State College, PA, University Park, VOR-B, Amdt 11A, CANCELLED

Wellsboro, PA, Wellsboro Johnston, VOR-A, Amdt 6A

Providence, RI, Theodore Francis Green State, VOR Y RWY 34, Amdt 5A

Pierre, SD, Pierre Rgnl, RNAV (GPS) RWY 31, Amdt 1

Caddo Mills, TX, Caddo Mills Muni, RNAV (GPS) RWY 36, Amdt 1

Comanche, TX, Comanche County-City, Takeoff Minimums and Obstacle DP, Amdt 1

Ennis, TX, Ennis Muni, Takeoff Minimums and Obstacle DP, Orig-A

Gladewater, TX, Gladewater Muni, VOR RWY 14, Amdt 3B, CANCELLED

Houston, TX, George Bush Intercontinental/Houston, RNAV (RNP) Y RWY 26L, Orig-D

Mineral Wells, TX, Mineral Wells Rgnl, ILS OR LOC RWY 31, Amdt 1A

Forest, VA, New London, RNAV (GPS) RWY 18, Orig-B

Forest, VA, New London, RNAV (GPS) RWY 36, Orig-B

Richmond/Ashland, VA, Hanover County Muni, Takeoff Minimums and Obstacle DP, Amdt 1

Wise, VA, Lonesome Pine, RNAV (GPS) RWY 6, Orig-A

Kelso, WA, Southwest Washington Rgnl, KELSO ONE, Graphic DP

Kelso, WA, Southwest Washington Rgnl, Takeoff Minimums and Obstacle DP, Amdt 4

Friendship (Adams), WI, Adams County Legion Field, Takeoff Minimums and Obstacle DP, Amdt 2

Lewisburg, WV, Greenbrier Valley, VOR RWY 22, Amdt 1, CANCELLED

[FR Doc. 2019-25297 Filed 11-27-19; 8:45 am]

BILLING CODE 4910-13-P